DEPARTMENT OF COMMERCE

International Trade Administration

A-570-831

Fresh Garlic From the People's Republic of China: Notice of Extension of Time Limit for the Final Results of Antidumping Duty Administrative and New Shipper Reviews

AGENCY: Import Administration, International Trade Administration, Department of Commerce.

SUMMARY: The Department of Commerce is extending the time limit for the final results of the administrative and new shipper reviews of the antidumping duty order on fresh garlic from the People's Republic of China until June 7, 2004. This extension applies to the administrative review of two exporters, Jinan Yipin Corporation, Ltd., and Shandong Heze International Trade and Developing Company, and the new shipper reviews of two exporters, Jining Trans-High Trading Company and Zhengzhou Harmoni Spice Co., Ltd. The period of review is November 1, 2001, through October 31, 2002.

EFFECTIVE DATE: May 13, 2004.

FOR FURTHER INFORMATION CONTACT: Minoo Hatten or Mark Ross, AD/CVD Enforcement 3, Import Administration, International Trade Administration, U.S. Department of Commerce, 14th Street and Constitution Avenue, N.W., Washington, D.C. 20230; telephone: (202) 482-1690 and (202) 482-4794, respectively.

SUPPLEMENTARY INFORMATION:

Background

On December 26, 2002, the Department of Commerce (the Department) published the Notice of Initiation of Antidumping and Countervailing Duty Administrative Reviews: Fresh Garlic from the People's Republic of China (67 FR 78772), in which it initiated an administrative review of the antidumping duty order on fresh garlic from the People's Republic of China. On January 6, 2003, the Department published the Notice of Initiation of New Shipper Antidumping Duty Reviews: Fresh Garlic from the People's Republic of China (68 FR 542), in which it initiated the new shipper reviews. On March 10, 2003, we aligned the new shipper reviews with the administrative review pursuant to 19 CFR 351.214(j)(3). As such, the time limits for the new shipper reviews were aligned with those for the administrative review. On December 10, 2003, the Department published the Notice of Preliminary Results of Antidumping Duty Administrative Review and New Shipper Reviews: Fresh Garlic from the People's Republic of China (69 FR 68868). On February 3, 2004, the Department published a notice extending the time limit for the final results of review until May 17, 2004. See Fresh Garlic From the People's Republic of China: Notice of Extension of Time Limit for the Final Results of Antidumping Duty Administrative and New Shipper Reviews (69 FR 5132).

Statutory Time Limits

Section 751(a)(3)(A) of the Tariff Act of 1930, as amended (the Act), provides that the Department will issue the final results of an administrative review of an antidumping duty order within 120 days after the date upon which the preliminary determination is published. The Act provides further that the Department may extend that 120-day period to 180 days if it determines that it is not practicable to complete the review within the foregoing time period. Section 751(a)(2)(B)(iv) of the Act also provides that we may extend the deadlines in a new shipper review if we determine that the case is extraordinarily complicated.

Extension of Time Limits for Final Results

It would be extraordinarily complicated to complete the aligned administrative review and new shipper reviews of Jinan Yipin Corporation Ltd., Shandong Heze International Trade and Developing Company, Jining Trans-High Trading Company, and Zhengzhou Harmoni Spice Co., Ltd., within the currently prescribed time period. The Department is still researching and analyzing comments raised after the preliminary results pertaining to the valuation of the factors of production for these companies. Further, on April 23, 2004, we received new factual information concerning one of the respondents. While normally we would not consider accepting new factual information at such a late stage in the review, in this situation, given the nature of the allegations within the submission, we considered it appropriate to accept the information and we require additional time to conduct a thorough evaluation. See April 30, 2004, memorandum from Mark Ross, Program Manager, to Laurie Parkhill, Office Director. Because of these complications and a number of other complex factual and legal questions which are currently before the agency that relate directly to the assignment of antidumping duty margins in this case, it is not practicable to complete the final results by the current deadline of May 17, 2004. Furthermore, in light of this new information on the record, it would be extraordinarily complicated to complete these reviews by this date. Thus, we are extending the 120-day period for completion of the final results of the administrative review and new shipper reviews to 180 days.

Therefore, in accordance with sections 751(a)(2)(B)(iv) and 751(a)(3)(A) of the Act, the Department is extending the time limit for the final results until no later than June 7, 2004.

Dated: May 7, 2004.
Jeffrey A. May,
Deputy Assistant Secretary for Import Administration, Group I.

[FR Doc. 04-10885 Filed 5-12-02; 8:45 am]

BILLING CODE 3510-DS-S